DEPARTMENT OF COMMERCE

National Oceanic and Atmospheric Administration

50 CFR Part 229

[Docket No. 150122067-5229-01]

RIN 0648-BE83

Taking of Marine Mammals Incidental to Commercial Fishing Operations; Atlantic Large Whale Take Reduction Plan Regulations; Correction

AGENCY: National Marine Fisheries Service (NMFS), National Oceanic and Atmospheric Administration (NOAA), Commerce.

ACTION: Proposed rule; request for comments; correction.

SUMMARY: NMFS published a proposed rule in the Federal Register on March 19, 2015, to amend the regulations implementing the Atlantic Large Whale Take Reduction Plan. This action proposed to change the minimum number of traps per trawl to allow fishing with a single trap in certain Massachusetts and Rhode Island state waters; and proposed to modify the requirement to use one endline on trawls within certain areas in Massachusetts state waters. NMFS also proposed a ¼ mile buffer in waters surrounding certain islands in Maine to allow fishing with a single trap. In addition, NMFS proposed additional gear marking requirements for those waters allowing single traps as well as two new high use areas for humpback whales (Megaptera novaeangliae) and North Atlantic right whales (Eubalaena glacialis). In that proposal, NMFS provided the wrong address for the submission of electronic comments. With this document, we correct our error by publishing the correct ADDRESSES section in its entirety.

DATES: We will accept comments on the March 19, 2015, (80 FR 14345) proposed rule that are received or postmarked on or before April 20, 2015.

ADDRESSES: You may submit comments on the March 19, 2015, proposed rule, identified by NOAA-NMFS-2015-0012, by either of the following methods:

• Electronic Submission: Submit all electronic public comments via the Federal e-Rulemaking Portal.

1. Go to www.regulations.gov/#!docketDetail;D=NOAA-NMFS-2015-0012.

2. Click the “Comment Now!” icon, complete the required fields.

3. Enter or attach your comments.

• Mail: Submit written comments to Kim Damon-Randall, Assistant Regional Administrator for Protected Resources, NMFS Greater Atlantic Region, 55 Great Republic Dr., Gloucester, MA 01930, Attn: Large Whale Proposed Rule.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Kate Swails, NMFS Greater Atlantic Regional Fisheries Office, 978-282-8481, Kate.Swails@noaa.gov; or, Kristy Long, NMFS Office of Protected Resources, 206-526-4792, Kristy.Long@noaa.gov.

SUPPLEMENTARY INFORMATION:

Correction

In a proposed rule that published in the Federal Register on March 19, 2015 (FR Doc. 2015-06272), (80 FR 14345) the ADDRESSES section provided the wrong address for the submission of electronic comments. The corrected ADDRESSES section appears above. All other information in the proposed rule, other than the ADDRESSES section, remains exactly the same as previously published.

Dated: March 27, 2015.
Samuel D. Rauch III,
Deputy Assistant Administrator for Regulatory Programs, National Marine Fisheries Service.

[FR Doc. 2015-08003 Filed 4-6-15; 8:45 am]

BILLING CODE 3510-22-P